NUCLEAR REGULATORY COMMISSION

Sunshine Act Meeting

Agency Holding the Meeting: Nuclear Regulatory Commission

Dates: Weeks of June 24, July 1, 8, 15, 22, 29, 2002.

PLACE: Commissioners' Conference Room, 11555 Rockville Pike, Rockville, Maryland.

STATUS: Public and Closed.

MATTERS TO BE CONSIDERED: Week of June 24, 2002—Tentative

Tuesday, June 25, 2002

1:55 p.m.—Affirmation Session (Public Meeting) (If needed)

Wednesday, June 26, 2002

10:30 a.m.—All Employees Meeting (Public Meeting)

1:30 p.m.—All Employees Meeting (Public Meeting)

Week of July 1, 2002—Tentative

Monday, July 1, 2002

2 p.m.—Discussion of International Safeguards Issues (Closed—Ex. 9)

Week of July 8, 2002—Tentative

Wednesday, July 10, 2002

9:25 a.m.—Affirmation Session (Public Meeting) (If needed)

9:30 a.m.—Briefing on License Renewal Program and Power Update Review Activities (Public Meeting) (Contacts: Noel Dudley, 301-415-1154, for license renewal program; Mohammed Shuaibi, 301-415-2859, for power uprate review activities)

This meeting will be webcast live at the Web address— http://www.nrc.gov

2 p.m.—Meeting with Advisory Committee on Reactor Safeguards (ACRS) (Public Meeting) (Contact: John Larkins, 301-415-7360)

This meeting will be webcast live at the Web address—

http://www.nrc.gov

Week of July 15, 2002—Tentative

Thursday, July 18, 2002

1:55 p.m.—Affirmation Session (Public Meeting) (If needed)

Week of July 22, 2002—Tentative

There are no meetings scheduled for the week of July 22, 2002.

Week of July 29, 2002—Tentative

There are no meetings scheduled for the week of July 29, 2002.

* The schedule for Commission meetings is subject to change on short notice. To verify the status of meetings call (recording)—(301) 415-1292. Contact person for more information: David Louis Gamberoni (301) 415-1651.

The NRC Commission Meeting Schedule can be found on the Internet at: http://www.nrc.gov/what-we-do/policy-making/schedule.html

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: June 19, 2002.
Sandra M. Joosten,
Executive Assistant, Office of the Secretary.

[FR Doc. 02-16000 Filed 6-20-02; 2:41 pm]

BILLING CODE 7590-01-M